Executive Order 14383 of February 6, 2026

Establishing an America First Arms Transfer Strategy

By the authority vested in me as President by the Constitution and the laws of the United States of America, it is hereby ordered:

Section 1. Purpose. American-manufactured military equipment is the best in the world, resulting in American dominance across international defense exports. It is critical that the United States fully use this comparative advantage in arms transfers as both a tool of foreign policy and a tool to expand domestic production and transfer.

To maintain our military dominance and technological superiority, the time has come to establish, implement, and execute an America First Arms Transfer Strategy. As the first strategy of its kind, it will ensure that future arms sales prioritize American interests by using foreign purchases and capital to build American production and capacity. This strategy will advance a technologically superior, ready, and resilient national security industrial enterprise. It will strengthen the United States defense industrial base to ensure it has the capacity to support our military and our allies and partners, especially as we increase burden-sharing.

Sec. 2. Policy. It is the policy of the United States to intentionally use arms transfers as a tool of American foreign policy and to expand strategically relevant industrial production capacity in the United States by:

(a) establishing an America First Arms Transfer Strategy that provides clear direction and implementation guidance to arms transfer stakeholders; and

(b) streamlining processes across executive departments and agencies (agencies) to strengthen effectiveness and create efficiencies in our defense sales enterprise.

Sec. 3. An America First Arms Transfer Strategy. (a) An America First Arms Transfer Strategy shall accomplish the following objectives:

(i) The United States will use arms sales and transfers to increase production and build production capacity for weapons and platforms the Secretary of War determines to be the most operationally relevant for executing the National Security Strategy (NSS);

(ii) The United States will use foreign purchases and capital to support domestic reindustrialization, expand production capacity, and improve the resilience of the United States defense industrial base. Arms sales and transfers will support Department of War (DoW) efforts to promote innovation and competition by incentivizing new entrants and nontraditional defense companies to contribute to the defense industrial base;

(iii) The United States will use arms sales and transfers to reinforce DoW acquisition and sustainment activities, including by building critical supply chain resilience and avoiding adding to backlogs on priority components and end-items that impact United States or ally and partner readiness;

(iv) Consistent with Executive Order 14268 of April 9, 2025 (Reforming Foreign Defense Sales to Improve Speed and Accountability), the United States will prioritize arms sales and transfers to partners that have invested in their own self-defense and capabilities, have a critical role or geography in United States plans and operations, or contribute to our economic security.

(b) Within 120 days of the date of this order, the Secretary of War, in coordination with the Secretary of State and the Secretary of Commerce, shall submit to the President, through the Assistant to the President for National Security Affairs, a sales catalog of prioritized platforms and systems that the United States shall encourage our allies and partners to acquire. The sales catalog shall be based on criteria identified in the America First Arms Transfer Strategy.

(c) Within 120 days of the date of this order, the Secretary of Commerce, in coordination with the Secretary of State and the Secretary of War, shall provide recommendations to enhance advocacy efforts encouraging foreign procurement of defense articles produced in America for the purpose of supporting an America First Arms Transfer Strategy.

(d) Within 120 days of the date of this order, the Secretary of State and the Secretary of War, in coordination with the Secretary of Commerce, shall identify Foreign Military Sales (FMS) and Direct Commercial Sales opportunities that will support the strategic objectives of the America First Arms Transfer Strategy and the growth of the United States defense industrial base.

(e) Within 60 days of the date of this order, the Secretary of State and the Secretary of War, in coordination with the Secretary of Commerce, shall develop an industry engagement plan and submit it to the President, through the Assistant to the President for National Security Affairs, to enable the United States Government to fully coordinate with American stakeholders while executing the America First Arms Transfer Strategy.

Sec. 4. Eliminating Inefficiencies in American Arms Transfers. In order to fully implement an America First Arms Transfer Strategy and streamline our defense sales process, the United States Government shall undertake the following actions:

(i) Within 90 days of the date of this order, the Secretary of War, in coordination with the Secretary of State, shall develop clear criteria for determining which weapons, platforms, or capabilities require Enhanced End Use Monitoring. Additionally, the Secretary of State, the Secretary of War, and the Secretary of Commerce shall establish an End Use Monitoring coordination group, consisting of designees from each respective department, which will meet to improve the effectiveness and coordination of their respective department's end-use monitoring activities. These actions will improve information sharing and efficiencies to ensure allies and partners are complying with United States requirements and to reduce risk of diversion.

(ii) Within 60 days of the date of this order, the Secretary of State, in coordination with the Secretary of War, shall review Third-Party Transfer (TPT) processes and submit a plan to the President through the Assistant to the President for National Security Affairs to reduce and potentially realign the onerous TPT process, with due consideration to technology security risks.

(iii) Within 90 days of the date of this order, the Secretary of War, in coordination with the Secretary of State, shall develop a process to provide advanced notice, as appropriate, to allies and partners of upcoming contracting actions and associated deadlines for FMS Letter of Offer and Acceptance implementation.

(iv) The Secretary of State, the Secretary of War, and the Secretary of Commerce shall ensure effective coordination when assessing the impacts of Direct Commercial Sales to the defense industrial base.

(v) To streamline Congressional notifications, Executive Order 13637 of March 8, 2013 (Administration of Reformed Export Controls) is hereby amended by revising section 1(j) and (k) to read as follows:

“(j) Those under sections 36(a) Act (22 U.S.C. 2776(a)) to the Secretary of War. The Secretary of War, in the implementation of the delegated functions under sections 36(a), shall consult with the Secretary of State. With respect to those functions under sections 36(a)(5) and (6) (22 U.S.C. 2776(a)(5) and (6)), the Secretary of War shall also consult with the Director of the Office of Management and Budget.

(k) Those under section 36(b)(1), (c) and (d) of the Act (22 U.S.C. 2776(b)(1), (c), and (d)) to the Secretary of State. To ensure coordination, the Secretary of State shall notify the Secretary of War of the intent to formally notify the Congress of proposed arms transfers.”

Sec. 5. Enhancing Accountability and Transparency. (a) Within 30 days of the date of this order, the Secretary of State, the Secretary of War, and the Secretary of Commerce shall establish the Promoting American Military Sales Task Force (Task Force) to coordinate efforts to implement the America First Arms Transfer Strategy and enhance accountability and transparency throughout the arms transfer enterprise. The Task Force shall:

(i) be chaired by the Assistant to the President for National Security Affairs or his designee, and be composed of the Under Secretary of Defense for Acquisition and Sustainment, the Under Secretary of State for Arms Control and International Security, the Under Secretary of Commerce for International Trade;

(ii) develop a charter to clearly define the specific objectives and structure of the Task Force;

(iii) include as ex officio members the Service Acquisition Executives of the military departments and representatives of other non-military implementing agencies as appropriate to report on actions taken by the military departments and other implementing agencies to accelerate the contracting of priority FMS cases and ensure exportability of identified priority systems; and

(iv) convene quarterly, or as required, to review progress implementing the America First Arms Transfer Strategy, including whether targeted defense sales align with the Strategy's objectives.

(b) Within 120 days of the date of this order, and to further the reforms directed in Executive Order 14268, and to improve transparency for United States industry and partners and allies, the Secretary of State, the Secretary of War, and the Secretary of Commerce shall begin to publish aggregate quarterly performance metrics on FMS case development and execution, and on the adjudication of Commerce and State export licenses.

Sec. 6. General Provisions. (a) Nothing in this order shall be construed to impair or otherwise effect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of War.

THE WHITE HOUSE,

February 6, 2026.

[FR Doc. 2026-02814

Filed 2-10-26; 11:15 am]

Billing code 6001-FR-P